FEDERAL COMMUNICATIONS COMMISSION

Radio Broadcasting Services; AM or FM Proposals To Change the Community of License

AGENCY: Federal Communications Commission.

ACTION: Notice.

SUMMARY: The following applicants filed AM or FM proposals to change the community of License: Alpha Media Licensee, LLC, Station NEW, Facility ID 198622, BNPH- 20151013AIK, From Longview, TX, To Hallsville, TX; Byrne Acquisition Group, LLC, Station WAHT, Facility ID 24482, BP-20170424AAT, From Clemson, SC, To Cowpens, SC; Central Florida Educational Foundational, Inc., Station WPOZ, Facility ID 9876, BPED-20170504ABA, From Union Park, FL, To Orlando, FL; Educational Media Foundation, Station KLRW, Facility ID 92140, BPED-20170530AAM, From Byrne, TX, To San Angelo, TX; Isleta Radio Company, Station KRKE, Facility ID 22391, BP- 20151123BZF, From Milan, NM, To Moriarty, NM; Point Ten, LLC, Station KXFM, Facility ID 5470, BPH-20151110ANR, From Santa Maria, CA, To Port Hueneme, CA; SLC Divestiture Trust I (W. Lawrence Patrick, Trustee), Station KDWY, Facility ID 77947, BMPH- 20170223ABT, From Oakley, UT, To Diamondville, WY; Sun Valley Media Group, LLC, Station KPTO, Facility ID 129638, BP-20170531ABF, From Pocatello, ID, To Hailey, ID.

DATES: The agency must receive comments on or before August 22, 2017.

ADDRESSES: Federal Communications Commission, 445 12th Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2017-13164 Filed 6-22-17; 8:45 am]

BILLING CODE 6712-01-P